SECURITIES AND EXCHANGE COMMISSION

[Release No. 34-85422; File No. SR-NYSEArca-2018-43]

Self-Regulatory Organizations; NYSE Arca, Inc.; Notice of Withdrawal of a Proposed Rule Change, as Modified by Amendment No. 1, Regarding Investments of the First Trust TCW Unconstrained Plus Bond ETF

March 26, 2019.

On July 11, 2018, NYSE Arca, Inc. (“Exchange”) filed with the Securities and Exchange Commission (“Commission”), pursuant to Section 19(b)(1) of the Securities Exchange Act of 1934 (“Act”) ¹ and Rule 19b-4 thereunder,² a proposed rule change seeking to modify certain investments of the First Trust TCW Unconstrained Plus Bond ETF, the shares of which are currently listed and traded on the Exchange pursuant to NYSE Arca Rule 8.600-E.

¹ 15 U.S.C. 78s(b)(1).

² 17 CFR 240.19b-4.

The proposed rule change was published for comment in the Federal Register on August 1, 2018.³ On September 14, 2018, pursuant to Section 19(b)(2) of the Act,⁴ the Commission designated a longer period within which to approve the proposed rule change, disapprove the proposed rule change, or institute proceedings to determine whether to disapprove the proposed rule change.⁵ On October 30, 2018, the Commission instituted proceedings to determine whether to approve or disapprove the proposed rule change.⁶ On January 25, 2019, the Commission designated a longer period for Commission action on the proposed rule change.⁷ On January 29, 2019, the Exchange filed Amendment No. 1 to the proposed rule change.

³ Securities Exchange Act Release No. 83720 (July 26, 2018), 83 FR 37560.

⁴ 15 U.S.C. 78s(b)(2).

⁵ See Securities Exchange Act Release No. 84123, 83 FR 47654 (September 20, 2018).

⁶ See Securities Exchange Act Release No. 84504, 83 FR 55439 (November 5, 2018).

⁷ See Securities Exchange Act Release No. 84990, 84 FR 868 (January 31, 2019).

On March 22, 2019, the Exchange withdrew the proposed rule change (SR-NYSEArca-2018-43), as modified by Amendment No. 1.

For the Commission, by the Division of Trading and Markets, pursuant to delegated authority.⁸
⁸ 17 CFR 200.30-3(a)(12).
Eduardo A. Aleman,
Deputy Secretary.

[FR Doc. 2019-06175 Filed 3-29-19; 8:45 am]

BILLING CODE 8011-01-P